DEPARTMENT OF COMMERCE

Patent and Trademark Office

37 CFR Part 2

[Docket No. PTO-T-2005-0014]

RIN 0651-AB56

Miscellaneous Changes to Trademark Trial and Appeal Board Rules

AGENCY: United States Patent and Trademark Office, Commerce.

ACTION: Proposed rule; notice of reopening of comment period.

SUMMARY: The United States Patent and Trademark Office (USPTO) is reopening the comment period for proposed changes to certain rules affecting practice before the Trademark Trial and Appeal Board that were published in the Federal Register January 17, 2006. Interested members of the public are invited to submit written comments on these proposed changes by the new deadline for comments.

DATES: The comment period for the proposed rule published at 71 FR 2498, January 17, 2006, originally set to close on March 20, 2006, is reopened from March 27, 2006, until May 4, 2006 (45 days beyond the original deadline).

ADDRESSES: Written comments may be sent by e-mail to AB56Comments@uspto.gov, or by mail addressed to Trademark Trial and Appeal Board, P.O. Box 1451, Alexandria, Virginia 22313-1451, marked to the attention of Gerard F. Rogers. Comments may also be sent by electronic mail message over the Internet via the Federal eRulemaking Portal. See http://www.regulations.gov for additional instructions on using this option.

FOR FURTHER INFORMATION CONTACT: Gerard F. Rogers, Administrative Trademark Judge, Trademark Trial and Appeal Board, by telephone at (571) 272-4299, or by e-mail addressed to Gerard.Rogers@uspto.gov, or by facsimile transmission marked to his attention and sent to (571) 273-0059.

SUPPLEMENTARY INFORMATION: A notice of proposed rule making to amend certain rules governing practice before the Trademark Trial and Appeal Board was published in the Federal Register on January 17, 2006 (71 FR 2498). A number of comments made in response to that notice suggested that an extension of the comment period would be helpful; and some of these recommended a public hearing. In addition, the Trademark Public Advisory Committee has recommended to the USPTO an extension and a hearing. The USPTO has decided to reopen the comment period (announcement of an extension not being possible before the scheduled close of the comment period on March 20, 2006). The USPTO has also decided, however, that written comments are preferred over oral comments and therefore will not schedule a public hearing. Any comments submitted after the close of the original comment period on March 20, 2006, but prior to the date of publication of this notice in the Federal Register will be considered. All comments submitted between January 17, 2006 and May 4, 2006, will be considered. All comments will be posted for public viewing on the Internet via the Federal eRulemaking Portal (http://www.regulations.gov).

Dated: March 20, 2006.
Jon W. Dudas,
Under Secretary of Commerce for Intellectual Property and Director of the United States Patent and Trademark Office.

[FR Doc. 06-2875 Filed 3-24-06; 8:45 am]

BILLING CODE 3510-16-P